DEPARTMENT OF JUSTICE

Antitrust Division

Notice Pursuant to the National Cooperative Research and Production Act of 1993—Information Warfare Research Project Consortium

Notice is hereby given that, on January 3, 2024, pursuant to section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, Alpine Method Technologies LLC, Aldie, VA; CR Access Consulting LLC, Virginia Beach, VA; DAn Solutions, Inc., Arlington, VA; Data Driven Engineering LLC, Ladson, SC; Defense Industry Advisors LLC, Dayton, OH; Four LLC, Herndon, VA; Gigamon, Inc., Santa Clara, CA; Goldbelt Hawk LLC, Newport News, VA; Grammatech, Inc., Ithaca, NY; Guardian Strategic Solutions LLC, Chesapeake, VA; Iron EagleX, Inc., Tampa, FL; JMA Resources, Inc., Mechanicsburg, PA; L3Harris Technologies, Inc.—Space and Airborne Systems, Palm Bay, FL; Numerica Corp., Fort Collins, CO; Obsidian Global LLC, Washington, DC; Parts Life, Inc., Moorestown, NJ; Radinnova, Inc., San Diego, CA; Strategi Consulting LLC, College Park, MD; Tagup, Inc., Somerville, MA; and Virtru Corp., Washington, DC, have been added as parties to this venture.

Also, Absolute Business Solutions, Inc., McLean, VA; Action Engineering LLC, Golden, CO; Applied Engineering Management Corp., Herndon, VA; C4 Planning Solutions LLC, Blythe, GA; Cohere Solutions LLC, Herndon, VA; Creative Global Consulting LLC, Laural, MD; Daines Advisory, Inc., Alhambra, CA; Guided Particle Systems, Inc., Pensacola, FL; Huckworthy LLC, Cape Charles, VA; J-Mack Technologies LLC, Fort Worth, TX; Juno Technologies, Inc., Rancho Sante Fe, CA; Kairos Research LLC, Dayton, OH; KITCO Fiber Optics, Inc., Norfolk, VA; LinQuest Corp., Los Angeles, CA; LOCATORX, Inc., Suwanee, GA; MKS2 LLC, Lakeway, TX; NCI Information Systems, Inc., Reston, VA; Qualcomm Technologies, Inc. San Diego CA; Roberson & Associates LLC, Schumburg, IL; RunSafe Security, Inc., McLean, VA; Simba Chain, Inc., Plymouth, IN; Skylark Wireless LLC, Houston, TX; Southeastern Computer Consultants, Inc., Frederick, MD; Spinvi Consulting LLC, Alexandria, VA; Tesla Government, Inc., Falls Church, VA; Tetrad Digital Integrity LLC, Washington, DC; Trex Enterprises Corp., San Diego, CA; and Veritech LLC, Aberdeen, MD, have withdrawn as parties to this venture.

No other changes have been made in either the membership or planned activity of the group research project. Membership in this group research project remains open, and IWRP intends to file additional written notifications disclosing all changes in membership.

On October 15, 2018, IWRP filed its original notification pursuant to section 6(a) of the Act. The Department of Justice published a notice in the Federal Register pursuant to section 6(b) of the Act on October 23, 2018 (83 FR 53499).

The last notification was filed with the Department on October 4, 2023. A notice was published in the Federal Register pursuant to section 6(b) of the Act on December 15, 2023 (88 FR 86937).

Suzanne Morris,
Deputy Director Civil Enforcement Operations, Antitrust Division.

[FR Doc. 2024-02263 Filed 2-5-24; 8:45 am]

BILLING CODE P